FEDERAL COMMUNICATIONS COMMISSION

47 CFR Part 73

[DA 02-498, MM Docket No. 02-45, RM-10374]

Digital Television Broadcast Service; Cadillac and Manistee, MI

AGENCY: Federal Communications Commission.

ACTION: Proposed rule.

SUMMARY: The Commission requests comments on a petition filed by Central Michigan University, the licensee of noncommercial station WCMV-TV, Cadillac, Michigan, and WCMW-TV, Manistee, Michigan, requesting the substitution of DTV channel *17 for DTV channel *58 as WCMV-DT paired DTV allotment; and the substitution of DTV channel *58 for DTV channel *17 as WCMW-DT's paired DTV allotment. DTV Channel *17 can be allotted to Cadillac in compliance with the principle community coverage requirements of Section 73.625(a) at reference coordinates 44-44-53 N. and 85-04-08 W. with a power of 500 and a height above average terrain (HAAT) of 399 meters. DTV channel *58 can be allotted to Manistee in compliance with the principle community coverage requirements of Section 73.625(a) at reference coordinates 44-03-57 N. and 86-19-58 W. with a power of 200 and a height above average terrain (HAAT) of 104 meters. Since the communities of Cadillac and Manistee are located within 400 kilometers of the U.S.-Canadian border, concurrence from the Canadian government must be obtained for these allotments.

DATES: Comments must be filed on or before April 29, 2002, and reply comments on or before May 14, 2002.

ADDRESSES: Federal Communications Commission, 445 12th Street, SW., Room TW-A325, Washington, DC 20554. In addition to filing comments with the FCC, interested parties should serve the petitioner, or its counsel or consultant, as follows: Todd D. Gray, Margaret L. Miller, Dow, Lohnes & Albertson, PLLC, 1200 New Hampshire Avenue, NW., Suite 800, Washington, DC 20036-6802 (Counsel for Central Michigan University).

FOR FURTHER INFORMATION CONTACT: Pam Blumenthal, Mass Media Bureau, (202) 418-1600.

SUPPLEMENTARY INFORMATION: This is a synopsis of the Commission's Notice of Proposed Rule Making, MM Docket No. 02-45, adopted March 1, 2002, and released March 6, 2001. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§73.622 [Amended]

2. Section 73.622(b), the Table of Digital Television Allotments under Michigan is amended by removing DTV Channel *58 and adding DTV Channel *17 at Cadillac; and by removing DTV channel *17 and adding DTV channel *58 at Manistee.

Federal Communications Commission.
Barbara A. Kreisman,
Chief, Video Services Division, Mass Media Bureau.

[FR Doc. 02-5709 Filed 3-8-02; 8:45 am]

BILLING CODE 6712-01-P